DEPARTMENT OF HEALTH AND HUMAN SERVICES

Food and Drug Administration

[Docket No. 00N-1373]

Agency Information Collection Activities; Proposed Collection; Comment Request; Reporting and Recordkeeping Requirements for Mammography Facilities; Correction

AGENCY: Food and Drug Administration, HHS.

ACTION: Notice; correction.

SUMMARY: The Food and Drug Administration (FDA) is correcting a notice that appeared in the Federal Register of July 17, 2000 (65 FR 44061). The document announced an opportunity for public comment on information collection requirements for mammography facilities, standards, and lay summaries for patients. The document was published with an inadvertent error. This document corrects that error.

DATES: July 26, 2000.

FOR FURTHER INFORMATION CONTACT: Mark Pincus, Office of Information Resources Management (HFA-250), Food and Drug Administration, 5600 Fishers Lane, Rockville, MD 20857, 301-827-1471.

SUPPLEMENTARY INFORMATION: In FR Doc. 00-17944 appearing on page 44061 in the Federal Register of July 17, 2000, the following correction is made:

On page 44061, in the first column, under the ADDRESSES caption, after the second sentence, “Persons with access to the Internet may submit electronic comments on the collection of information at http://www.accessdata.fda.gov/scripts/oc/dockets/comments/commentdocket.cfm.” is added.

Dated: July 21, 2000.
William K. Hubbard,
Senior Associate Commissioner for Policy, Planning, and Legislation.

[FR Doc. 00-18942 Filed 7-25-00; 8:45 am]

BILLING CODE 4160-01-F